DEPARTMENT OF LABOR

Employment and Training Administration

[TA-W-52,525]

Alcatel Internetworking (PE), Spokane, WA; Notice of Affirmative Determination Regarding Application for Reconsideration

By letter of September 30, 2003, a petitioner requested administrative reconsideration of the Department of Labor's Notice of Negative Determination Regarding Eligibility to Apply for Worker Adjustment Assistance, applicable to workers of the subject firm. The Department's determination notice was signed on August 29, 2003. The notice was published in the Federal Register on September 17, 2003 (68 FR 54497).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, grated.

Signed in Washington, DC this 14th day of November, 2003.
Linda G. Poole,
Certifying Officer, Division of Trade Adjustment Assistance.

[FR Doc. 03-31297 Filed 12-18-03; 8:45 am]

BILLING CODE 4510-30-M